DEPARTMENT OF TRANSPORTATION

Federal Aviation Administration

Office of Commercial Space Transportation: Notice of Availability and Request for Comment on the Draft Environmental Assessment (EA) for Issuing a Reentry License to SpaceX for Landing the Dragon Spacecraft in the Gulf of Mexico

AGENCY: Federal Aviation Administration, DOT.

ACTION: Notice of availability and request for comment.

SUMMARY: In accordance with the National Environmental Policy Act of 1969, as amended (NEPA), Council on Environmental Quality NEPA implementing regulations, and FAA Order 1050.1F, Environmental Impacts: Policies and Procedures, the FAA is announcing the availability of and requesting comment on the Draft EA for issuing a reentry license to SpaceX for Dragon landings in the Gulf of Mexico.

DATES: Comments must be received on or before May 4, 2018.

ADDRESSES: Comments should be mailed to Daniel Czelusniak, Environmental Protection Specialist, Federal Aviation Administration, 800 Independence Avenue SW, Suite 325, Washington, DC 20591. Comments may also be submitted by email to Dragon_Gulf_Landing_EA@icf.com.

FOR FURTHER INFORMATION CONTACT: Daniel Czelusniak, Environmental Specialist, Federal Aviation Administration, 800 Independence Avenue SW, Suite 325, Washington, DC 20591; phone (202) 267-5924; email Dragon_Gulf_Landing_EA@icf.com.

SUPPLEMENTARY INFORMATION: The Federal Aviation Administration (FAA), Department of Transportation (DOT) is the lead agency. The National Aeronautics and Space Administration and U.S. Air Force are cooperating agencies.

The FAA is evaluating SpaceX's proposal to conduct Dragon landings in the Gulf of Mexico, which would require the FAA to issue a reentry license. SpaceX has two versions of Dragon: Dragon-1 and Dragon-2. Dragon-1 is used for cargo missions to the International Space Station (ISS). SpaceX intends that Dragon-2 will eventually be used to transport astronauts to the ISS. Under the Proposed Action, the FAA would issue a reentry license to SpaceX, which would authorize SpaceX to conduct up to six Dragon landing operations per year in the Gulf of Mexico. Each landing operation would include orbital reentry, splashdown, and recovery.

Alternatives under consideration include the Proposed Action and the No Action Alternative. Under the No Action Alternative, the FAA would not issue a reentry license to SpaceX for Dragon reentry and splashdown in the Gulf of Mexico. SpaceX would continue to conduct Dragon reentries and splashdowns in the Pacific Ocean authorized under an FAA reentry license.

The Draft EA evaluates the potential environmental impacts from the Proposed Action and No Action Alternative on air quality; climate; noise and noise-compatible land use; Department of Transportation Act, section 4(f); biological resources (including aquatic plants and animals and special status species); coastal resources; water resources; natural resources and energy supply; and hazardous materials, solid waste, and pollution prevention. Potential cumulative impacts are also addressed in this EA.

The FAA has posted the Draft EA on the FAA Office of Commercial Space Transportation website: https://www.faa.gov/about/office_org/headquarters_offices/ast/environmental/nepa_docs/review/launch/.

The FAA encourages all interested parties to provide comments concerning the scope and content of the Draft EA by May 4, 2018. Before including your address, phone number, email address, or other personal identifying information in your comment, be advised that your entire comment—including your personal identifying information—may be made publicly available at any time. While you can ask the FAA in your comment to withhold from public review your personal identifying information, the FAA cannot guarantee that we will be able to do so.

Issued in Washington, DC, on: March 26, 2018.
Daniel Murray,
Manager, Space Transportation Development Division.

[FR Doc. 2018-06408 Filed 4-4-18; 8:45 am]

BILLING CODE 4910-13-P